SOCIAL SECURITY ADMINISTRATION

[Docket No. SSA-2015-0049]

Consent Based Social Security Number Verification (CBSV) Service

AGENCY: Social Security Administration.

ACTION: Notice of revised transaction fee for consent based Social Security Number Verification service.

SUMMARY: We provide fee-based Social Security number (SSN) verification services to enrolled private businesses and government agencies who obtain a valid, signed consent form from the Social Security number holder. We originally published a notice announcing the CBSV service in the Federal Register on August 10, 2007.

Based on the signed consent forms, we verify the number holders' SSNs for the requesting party. The Privacy Act of 1974 (5 U.S.C. 552a(b)), section 1106 of the Social Security Act (42 U.S.C. 1306) and our regulation at 20 CFR 401.100, establish the legal authority for us to provide SSN verifications to third party requesters based on consent.

The CBSV process provides the business community and other government entities with consent-based SSN verifications in high volume. We developed CBSV as a user-friendly, internet-based application with safeguards that will protect the public's information. In addition to the benefit of providing high volume, centralized SSN verification services to the business community in a secure manner, CBSV provides us with cost and workload management benefits.

New Information: To use CBSV, interested parties must pay a one-time non-refundable enrollment fee of $5,000. Currently, users also pay a fee of $3.10 per SSN verification transaction in advance of services. We agreed to calculate our costs periodically for providing CBSV services and adjust the fees as needed. We also agreed to notify our customers who currently use the service and allow them to cancel or continue using the service at the new transaction fee.

Based on the most recent cost analysis, we will adjust the fiscal year 2016 fee to $1.40 per SSN verification transaction. New customers will still be responsible for the one-time $5,000 enrollment fee.

DATES: The changes described above are effective October 1, 2015.

FOR FURTHER INFORMATION CONTACT: Lori Vandeventer, Office of Public Service and Operations Support, Social Security Administration, 6401 Security Boulevard, Baltimore, MD 21235-6401, [410-965-6514], for more information about the CBSV service, visit our Internet site, Social Security Online, at http://www.socialsecurity.gov/cbsv.

Dated: September 29, 2015.
Lori Vandeventer,
Division Director, Office of Public Service and Operations Support.

[FR Doc. 2015-25300 Filed 10-5-15; 8:45 am]

BILLING CODE 4191-02-P